DEPARTMENT OF ENERGY

Federal Energy Regulatory Commission

[Docket No. RP01-411-002]

Kern River Gas Transmission Company; Notice of Compliance Filing

November 17, 2003.

Take notice that on November 12, 2003, Kern River Gas Transmission Company (Kern River) tendered for filing as part of its FERC Gas Tariff, Second Revised Volume No. 1, the following tariff sheets:

Substitute Second Revised Sheet No. 205

Substitute First Revised Sheet No. 206

Substitute Original Sheet No. 207-A

Kern River states that the purpose of this filing is to comply with the October 24, 2003 Order issued in this proceeding by submitting revised tariff sheets that modify the conditions under which available capacity may be reserved for use in a future expansion project.

Kern River states that it has served a copy of this filing on all parties designated on the official service list compiled by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00359 Filed 11-21-03; 8:45 am]

BILLING CODE 6717-01-P